Title 3—

The President

Proclamation 9507 of September 30, 2016

National Breast Cancer Awareness Month, 2016

By the President of the United States of America

A Proclamation

Every year, too many Americans are touched by the pain and hardship caused by breast cancer—a disease that, among women, is not only one of the most common cancers, but also one of the leading causes of cancer-related death. During National Breast Cancer Awareness Month, we honor all those who lost their lives to breast cancer, and we recognize the courageous survivors who are still fighting it. For these individuals, and for their loved ones who give their unwavering support during the most trying times, we recommit ourselves to the essential and necessary work of forging a future free from cancer in all its forms.

Hundreds of thousands of Americans will be diagnosed with breast cancer this year, and tens of thousands will lose their battle with this disease. Although both women and men can have breast cancer, women are at higher risk. Women with a family history of breast cancer, or those who are older or obese, are also more likely to be diagnosed with breast cancer. I encourage all women to find out if they are at increased risk and to learn more about recommended screenings by speaking with their health care providers and by visiting www.Cancer.gov/Breast.

Early detection and treatment can save lives. Since I took office, I have worked to make quality, affordable health care a reality for more Americans. The Affordable Care Act has given millions of women expanded access to preventive services, including screening tests such as mammograms, with no out-of-pocket costs. Women can no longer be denied coverage because of a pre-existing condition, including a family history of breast cancer, and lifetime and annual limits on essential health benefits have been eliminated.

Critical research efforts over time have yielded great progress in how we diagnose and treat breast cancer, which has produced a steady increase in survival rates for those suffering from this disease—and it is crucial that we keep building on these successes. This year, the National Cancer Institute launched the largest study of its kind to investigate the role of genetic and biological factors in breast cancer risk among African American women, who have a higher risk of dying from breast cancer. The White House Cancer Moonshot Task Force, also launched this year, is a new national effort striving to make a decade's worth of progress in preventing, diagnosing, and treating cancer in just 5 years. And through the Precision Medicine Initiative—a bold research effort aimed at delivering disease prevention and treatment based on an individual's unique traits and genetic information—we are pursuing new oncology-focused efforts to advance personalized care through targeted cancer therapies.

This month, with bold pink ribbons displayed proudly across America, we stand in solidarity with breast cancer survivors and reaffirm our commitment to raising awareness of this disease and to advancing research efforts. Let us thank the countless advocates, medical professionals, researchers, and caregivers who dedicate their lives to fighting for a world without breast cancer, and together, let us carry out our mission to cure cancer once and for all.

NOW, THEREFORE, I, BARACK OBAMA, President of the United States of America, by virtue of the authority vested in me by the Constitution and the laws of the United States, do hereby proclaim October 2016 as National Breast Cancer Awareness Month. I encourage citizens, government agencies, private businesses, nonprofit organizations, and all other interested groups to join in activities that will increase awareness of what Americans can do to prevent breast cancer.

IN WITNESS WHEREOF, I have hereunto set my hand this thirtieth day of September, in the year of our Lord two thousand sixteen, and of the Independence of the United States of America the two hundred and forty-first.

[FR Doc. 2016-24342

Filed 10-5-16; 8:45 am]

Billing code 3295-F7-P